DEPARTMENT OF ENERGY

Federal Energy Regulatory Commission

Combined Notice of Filings #1

Take notice that the Commission received the following electric rate filings:

Docket Numbers: ER19-456-003.

Applicants: Southwest Power Pool, Inc.

Description: Compliance filing: Mor-Gran-Sou Electric Cooperative Formula Rate Compliance Filing to be effective 2/1/2019.

Filed Date: 12/26/19.

Accession Number: 20191226-5028.

Comments Due: 5 p.m. ET 1/16/20.

Docket Numbers: ER20-683-000.

Applicants: Tri-State Generation and Transmission Association, Inc.

Description: § 205(d) Rate Filing: Tri-State Wholesale Electric Service Contracts to be effective 3/20/2020.

Filed Date: 12/26/19.

Accession Number: 20191226-5000.

Comments Due: 5 p.m. ET 1/16/20.

Docket Numbers: ER20-684-000.

Applicants: Midcontinent Independent System Operator, Inc.

Description: § 205(d) Rate Filing: 2019-12-26_SA 3176 NSP-NSP 1st Rev GIA (J460) to be effective 12/10/2019.

Filed Date: 12/26/19.

Accession Number: 20191226-5033.

Comments Due: 5 p.m. ET 1/16/20.

Docket Numbers: ER20-685-000.

Applicants: Midcontinent Independent System Operator, Inc.

Description: § 205(d) Rate Filing: 2019-12-26_SA 1634 ITC Midwest-Jeffers Wind 20 2nd Rev GIA (G442) to be effective 12/11/2019.

Filed Date: 12/26/19.

Accession Number: 20191226-5112.

Comments Due: 5 p.m. ET 1/16/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 26, 2019.
Nathaniel J. Davis, Sr.,
Deputy Secretary.

[FR Doc. 2019-28297 Filed 12-31-19; 8:45 am]

BILLING CODE 6717-01-P